DEPARTMENT OF HOUSING AND URBAN DEVELOPMENT

[Docket No. FR-5200-FA-03]

Announcement of Funding Awards for the Housing Choice Voucher Family Self Sufficiency Program for Fiscal Year 2008

AGENCY: Office of the Assistant Secretary for Public and Indian Housing, HUD.

ACTION: Announcement of funding awards.

SUMMARY: In accordance with section 102(a)(4)(C) of the Department of Housing and Urban Development Reform Act of 1989, this announcement notifies the public of funding decisions made by the Department for funding under the Fiscal Year (FY) 2008 Notice of Funding Availability (NOFA) for the Housing Choice Voucher (HCV) Family Self Sufficiency (FSS) funding for FY2008. This announcement contains the consolidated names and addresses of award recipients selected for funding based on the rating and ranking of all applications and the allocation of funding available for each state.

FOR FURTHER INFORMATION CONTACT: For questions concerning the FY2008 HCV FSS awards, contact the Office of Public and Indian Housing's Grant Management Center, Acting Director, Keia L. Neal, Department of Housing and Urban Development, Washington, DC 20410-5000, telephone (202) 475-8908. For the hearing or speech impaired, these numbers may be accessed via TTY (text telephone) by calling the Federal Information Relay Service at 1 (800) 877-8339. (Other than the “800” TTY number, these telephone numbers are not toll-free.)

SUPPLEMENTARY INFORMATION: The authority for the $49,000,000 in one-year budget authority HCV FSS program coordinators is found in the Departments of Veterans Affairs and Housing and Urban Development, and Independent Agencies Appropriations Act, 2008 (Pub. L. 110-161). The allocation of housing assistance budget authority is pursuant to the provisions of 24 CFR part 791, subpart D, implementing section 213(d) of the Housing and Community Development Act of 1974, as amended.

This program is intended to promote the development of local strategies to coordinate the use of assistance under the Housing Choice Voucher program with public and private resources to enable participating families to achieve economic independence and self-sufficiency. A FSS program coordinator assures that program participants are linked to the supportive services they need to achieve self-sufficiency.

The FY2008 awards announced in this notice were selected for funding in a competition announced in the NOFA published on May 12, 2008. In accordance with section 102(a)(4)(C) of the Department of Housing and Urban Development Reform Act of 1989 (103 Stat. 1987, 42 U.S.C. 3545), the Department is publishing the names, addresses, and amounts of the 638 awards made under the HCV FSS competitions.

Dated: January 12, 2009.
Paula O. Blunt,
General Deputy Assistant Secretary for Public and Indian Housing.

Appendix A—Fiscal Year 2008 Funding Awards for the Housing Choice Voucher Family Self-Sufficiency Program
Recipient | Address/city/state/zip code | Amount
Housing Choice Voucher Family Self-Sufficiency
Alaska Housing Finance Corporation | 4300 Boniface Parkway, P.O. Box 101020, Anchorage, AK 99510 | $64,909
Albertville Housing Authority | 711 South Broad Street, Albertville, AL 35950 | 41,410
Alexander City Housing Authority | 2110 County Road, Alexander City, AL 35010 | 32,949
Bessemer Housing Authority | 1515 Fairfax Avenue South, Bessemer, AL 35020 | 35,912
Florence Housing Authority | 110 South Cypress Street, Suite 1, Florence, AL 35630 | 47,277
Housing Authority of the Birmingham District | 1826 3rd Avenue South, Birmingham, AL 35233 | 64,909
Housing Authority of the City of Decatur, Alabama | P.O. Box 878, 100 Wilson Street Northeast, Decatur, AL 35601 | 34,434
Jefferson County Housing Authority | 3700 Industrial Parkway, Birmingham, AL 35217 | 49,300
Mobile Housing Board | 151 S. Claiborne Street, Mobile, AL 36602 | 79,472
Prichard Housing Authority | 4559 St. Stephens Road, Eight Mile, AL 36613 | 45,688
The Housing Authority of the City of Huntsville | 200 Washington Street, Huntsville, AL 35804 | 56,870
The Housing Authority of the City of Montgomery, Alabama | 1020 Bell Street, Montgomery, AL 36104 | 50,780
Tuscaloosa Housing Authority | 2808 10th Avenue, Tuscaloosa, AL 35401 | 50,941
Conway County Housing Authority | P.O. Box 229, Morrilton, AR 72110 | 72,120
Housing Authority of Lonoke County, | P.O. Box 74 617, North Greenlaw Street, Carlisle, AR 72024 | 36,774
Housing Authority of the City of Hope | 720 Texas Street, Hope, AR 71801 | 31,004
Housing Authority of the City of Pine Bluff | P.O. Box 8872 2503, Belle Meade, Pine Bluff, AR 71611 | 74,450
Housing Authority of the City of West Memphis | 2820 Harrison Street, West Memphis, AR 72301 | 40,700
Jonesboro Urban Renewal and Housing Authority | 330 Union Street, Jonesboro, AR 72401 | 41,624
Lee County Housing Authority | 100 West Main, Marianna, AR 72360 | 24,172
McGehee Public Residential Housing Facilities Board | P.O. Box 725 300, Shady Lane, McGehee, AR 71654 | 31,848
Mississippi County Public Facilities Board | 810 West Keiser, Osceola, AR 72370 | 73,685
North Little Rock Housing Authority | P.O. Box 516, 2201 Division Street, North Little Rock, AR 72115 | 108,950
Northwest Regional Housing Authority | P.O. Box 2568 114, Sisco Avenue, Harrison, AR 72602 | 40,207
Pope County Public Facilities Board | P.O. Box 846, 301 East 3rd Street, Russellville, AR 72811 | 35,342
Pulaski County Housing Agency | 201 South Broadway, Suite 220, Little Rock, AR 72201 | 35,158
White River Regional Housing Authority | P.O. Box 650, Melbourne, AR 72556 | 38,814
Wynne Housing Authority | 200 Fisher Place, Wynne, AR 72396 | 27,323
Chandler, City of | P.O. Box 4008, Mail Stop #101, Chandler, AZ 85244 | 53,903
City of Douglas Public Housing Authority | 1815 East 9th Street, Douglas, AZ 85607 | 66,000
City of Mesa | P.O. Box 1466, Mesa, AZ 85211 | 96,575
City of Phoenix Housing Department | 251 West Washington, 4th Floor, Phoenix, AZ 85003 | 198,000
City of Scottsdale Housing Agency | 7515 East 1st Street, Scottsdale, AZ 85251 | 54,574
City of Tempe Housing Services | 21 East 6th Street, Suite 214, Tempe, AZ 85281 | 129,818
City of Tucson | 310 N. Commerce Park Loop, P.O. Box 27210, Tucson, AZ 85726 | 117,944
Housing Authority of Cochise County | P.O. Box 167, 100 Clawson Avenue, Bisbee, AZ 85603 | 54,383
Housing Authority of Maricopa County | 2024 North 7th Street, Suite 101, Phoenix, AZ 85006 | 44,698
Housing Authority of the City of Yuma | 420 South Madison Avenue, Yuma, AZ 85364 | 129,974
Mohave, County of | P.O. Box 7000, Kingman, AZ 86402 | 49,604
Pinal County Division of Housing | 970 No. Eleven Mile Corner Road, Casa Grande, AZ 85294 | 50,603
Yuma County Housing Department | 8450 West Highway 95, #88, Somerton, AZ 85350 | 36,967
Area Housing Authority of the County of Ventura | 1400 West Hillcrest Drive, Ventura, CA 91320 | 63,500
City of Benicia Housing Authority | 28 Riverhill Drive, Benicia, CA 94510 | 127,008
City of Norwalk | 12035 Firestone Boulevard, Norwalk, CA 90650 | 63,363
City of Oceanside Community Development Commission | 300 N. Coast Hwy., Oceanside, CA 92054 | 132,000
City of Pomona Housing Authority | 505 S. Garey Avenue, Pomona, CA 91769 | 66,000
City of Santa Monica Housing Authority | 2121 Cloverfield Blvd., Santa Monica, CA 90404 | 64,266
Consolidated Area Housing Authority of Sutter County | 448 Garden Highway, Yuba City, CA 95991 | 50,953
Culver City Housing Agency | 9770 Culver Boulevard, Culver City, CA 90232 | 64,909
El Dorado County Community Services | 937 Spring Street, Placerville, CA 95667 | 93,953
Fairfield Housing Authority | 823-B Jefferson St., Fairfield, CA 94533 | 131,000
Garden Grove Housing Authority | 11277 Garden Grove Boulevard STE. 101-C, Garden Grove, CA 92842 | 66,000
Housing Authority of the City of Fresno | Post Office Box 11985, Fresno, CA 93776 | 254,240
Housing Authority of the City of Glendale | 141 N. Glendale Avenue, Room 202, Glendale, CA 91206 | 65,650
Housing Authority of the City of Long Beach | 521 East 4th Street, Long Beach, CA 90802 | 262,600
Housing Authority of the City of Madera | 205 North G Street, Madera, CA 93637 | 120,036
Housing Authority of the City of Oxnard | 435 South D Street, Oxnard, CA 93030 | 66,000
Housing Authority of the City of Redding | P.O. Box 4196071, Redding, CA 96049 | 57,560
Housing Authority of the City of San Jose | 505 West Julian Street, San Jose, CA 95110 | 66,000
Housing Authority of the City of San Luis Obispo | 487 Leff Street, San Luis Obispo, CA 93401 | 50,560
Housing Authority of the City of Santa Ana | P.O. Box 22030, Santa Ana, CA 92702 | 63,690
Housing Authority of the City of Santa Barbara | 808 Laguna Street, Santa Barbara, CA 93101 | 132,000
Housing Authority of the City of Vallejo | 200 Georgia Street, Vallejo, CA 94590 | 132,000
Housing Authority of the County of Alameda | 22941 Atherton Street, Hayward, CA 94541 | 198,000
Housing Authority of the County of Contra Costa | 3133 Estudillo Street, P.O. Box 2759, Martinez, CA 94553 | 132,000
Housing Authority of the County of Fresno | Post Office Box 11985, Fresno, CA 93776 | 302,982
Housing Authority of the County of Kings | P.O. Box 355, 680 North Douty Street, Hanford, CA 93232 | 56,106
Housing Authority of the County of Marin | 4020 Civic Center Drive, San Rafael, CA 94903 | 132,000
Housing Authority of the County of Monterey | 123 Rico Street, Salinas, CA 93907 | 63,258
Housing Authority of the County of Riverside | 5555 Arlington Avenue, Riverside, CA 92504 | 65,650
Housing Authority of the County of San Bernardino | 715 East Brier Drive, San Bernardino, CA 92408 | 120,436
Housing Authority of the County of San Diego | 3989 Ruffin Road, San Diego, CA 92123 | 66,000
Housing Authority of the County of San Joaquin | 448 South Center Street, Stockton, CA 95203 | 129,818
Housing Authority of the County of San Mateo | 264 Harbor Boulevard, #A, Belmont, CA 94002 | 132,000
Housing Authority of the County of Santa Barbara | 815 West Ocean Avenue, Lompoc, CA 93436 | 66,000
Housing Authority of the County of Santa Clara | 505 W. Julian Street, San Jose, CA 95110 | 132,000
Housing Authority of the County of Santa Cruz | 2931 Mission Street, Santa Cruz, CA 95060 | 64,909
Housing Authority of the County of Stanislaus | P.O. Box 581918, 1701 Robertson Road, Modesto, CA 95358 | 55,010
Imperial Valley Housing Authority | 1401 D Street, Brawley, CA 92227 | 60,546
Oakland Housing Authority | 1619 Harrison Street, Oakland, CA 94612 | 129,818
Orange County Housing Authority | 1770 North Broadway, Santa Ana, CA 92706 | 127,421
Pasadena Community Development Commission | 649 North Fair Oaks Avenue, Suite 202, Pasadena, CA 91001 | 41,624
Pico Rivera Housing Assistance Agency | P.O. Box 1016, Pico Rivera, CA 90660 | 64,625
Roseville Housing Authority | 311 Vernon Street, Roseville, CA 95678 | 64,908
San Diego Housing Commission | 1122 Broadway, 5th Floor, San Diego, CA 92101 | 396,000
Shasta County Housing Authority | 1450 Court Street, Suite 108, Redding, CA 96001 | 40,177
Solano County Housing Authority | 40 Eldridge Avenue, Suite 2, Vacaville, CA 95688 | 112,010
Sonoma County Community Development Commission | 1440 Guerneville Road, Santa Rosa, CA 95403 | 64,909
Vacaville Housing Authority | 40 Eldridge Avenue, Suite 2, Vacaville, CA 95688 | 129,818
Yuba County Housing Authority | 915 8th Street, Suite 130, Marysville, CA 95901 | 55,979
Adams County Housing Authority | 7190 Colorado Boulevard, Commerce City, CO 80022 | 92,131
Arvada Housing Authority | 8001 Ralston Road, Arvada, CO 80002 | 38,122
Boulder County Housing Authority | P.O. Box 471, Boulder, CO 80306 | 122,282
Colorado Department of Local Affairs, Division of Housing | 1313 Sherman Street, Room 518, Denver, CO 80203 | 62,483
Fort Collins Housing Authority | 1715 West Mountain Avenue, Fort Collins, CO 80521 | 132,000
Grand Junction Housing Authority | 1011 North 10th Street, Grand Junction, CO 81501 | 44,818
Housing Authority of the City & County of Denver | 777 Grant Street, Denver, CO 80203 | 132,072
Housing Authority of the City of Aurora | 10745 East Kentucky Avenue, Aurora, CO 80012 | 43,967
Housing Authority of the City of Englewood | 3460 South Sherman, Suite 101, Englewood, CO 80113 | 43,260
Housing Authority of the City of Pueblo | 1414 North Santa Fe Avenue, Pueblo, CO 81003 | 41,959
Lakewood Housing Authority | 480 S. Allison Parkway, Lakewood, CO 80226 | 37,371
The Housing Authority of the City of Loveland | 375 West 37th Street, Suite 200, Loveland, CO 80538 | 82,220
Bristol Housing Authority | 164 Jerome Street, Bristol, CT 6010 | 66,000
City of Derby Housing Authority | 45 Minerva Street, Derby, CT 6418 | 51,400
Housing Authority of the City of Ansonia | 36 Main Street, Ansonia, CT 6401 | 104,862
Housing Authority of the City of Meriden | P.O. Box 911, 22 Church Street, Meriden, CT 6451 | 95,733
Housing Authority of the City of Norwalk | P.O. Box 508, 24½ Monroe Street, Norwalk, CT 6856 | 195,818
District of Columbia Housing Authority | 1133 North Capitol Street, NE, Suite 150B, Washington, DC 20002 | 198,000
Boca Raton Housing Authority | 201 W. Palmetto Park Road, Palm Beach, FL 33432 | 50,500
Broward County Housing Authority | 4780 North State Road 7, Lauderdale Lakes, FL 33319 | 60,592
City of Pensacola Department of Housing | P.O. Box 12910, Pensacola, FL 32521 | 30,300
Clearwater Housing Authority | 908 Cleveland Street, Clearwater, FL 33755 | 84,289
County of Volusia, FL | 110 W. Rich Avenue, DeLand, FL 32720 | 55,901
Deerfield Beach Housing Authority | 533 South Dixie Highway, Deerfield Beach, FL 33441 | 15,474
Hialeah Housing Authority | 75 East 6th Street, Hialeah, FL 33040 | 70,927
Hillsborough County B.O.C.C. | 3620 West Humphrey Street, Tampa, FL 33614 | 59,110
Hollywood Housing Authority | 7350 N. Davie Rd. Ext., Hollywood, FL 33024 | 19,908
Housing Authority City of Daytona Beach | 211 North Ridgewood Avenue, Suite 200, Daytona Beach, FL 32114 | 36,862
Housing Authority of Brevard County | 615 Kurek Court, Merritt Island, FL 32953 | 59,437
Housing Authority of Lakeland | 430 Hartsell Avenue, Lakeland, FL 33815 | 48,140
Housing Authority of the City of Fort Lauderdale | 437 SW 4th Avenue, Fort Lauderdale, FL 33315 | 63,018
Housing Authority of the City of Fort Myers | 4224 Michigan Avenue, Fort Myers, FL 33916 | 49,375
Housing Authority of the City of Fort Pierce | 707 North 7th Street, Fort Pierce, FL 34950 | 62,541
Housing Authority of the City of Miami Beach | 200 Alton Road, Miami Beach, FL 33139 | 63,000
Housing Authority of the City of Orlando, Florida | 390 N. Bumby Avenue, Orlando, FL 32803 | 99,974
Housing Authority of the City of Pompano Beach | 321 West Atlantic Boulevard, Pompano Beach, FL 33060 | 45,198
Housing Authority of the City of Tampa | 1529 West Main Street, Tampa, FL 33607 | 150,111
Jacksonville Housing Authority | 1300 Broad Street, Jacksonville, FL 32202 | 45,312
Lee County Housing Authority | 14170 Warner Circle Northwest, North Fort Myers, FL 33903 | 45,955
Ocala Housing Authority | 1629 NW 4th Street, Ocala, FL 34475 | 49,893
Palm Beach Housing Authority | 3432 West 45th Street, West Palm Beach, FL 33407 | 72,537
Pasco County Housing Authority | 14517 7th Street, Dade City, FL 33523 | 32,425
Tallahassee Housing Authority | 2940 Grady Road, Tallahassee, FL 32312 | 51,828
West Palm Beach Housing Authority | 1715 Division Avenue, West Palm Beach, FL 33407 | 58,937
City of Marietta Housing Choice Voucher Program | 268 Lawrence Street, Suite 200, Marietta, GA 30060 | 56,133
Georgia Department of Community Affairs | 60 Executive Park South, NE, Atlanta, GA 30329 | 355,591
Housing Authority of Columbus, Georgia | P.O. Box 630, 1000 Wynnton Road, Columbus, GA 31902 | 45,000
Housing Authority of Fulton County | 4273 Wendell Drive, Atlanta, GA 30336 | 45,645
Housing Authority of the City of Augusta, Georgia | 1435 Walton Way, Augusta, GA 30901 | 100,582
Housing Authority of the City of College Park | 2000 West Princeton Avenue, College Park, GA 30337 | 63,118
Housing Authority of the City of East Point, Georgia | 3056 Norman Berry Drive, East Point, GA 30364 | 66,000
Housing Authority of the City of Marietta | 95 Cole Street, P.O. Drawer K, Marietta, GA 30061 | 55,950
Northwest Georgia Housing Authority | 800 North Fifth Avenue, Rome, GA 30162 | 41,000
The Housing Authority of the City of Brunswick | P.O. Box 1118, Brunswick, GA 31521 | 42,517
Guam Housing and Urban Renewal Authority | 117 Bien Venida Avenue, Sinajana, GU 96910 | 53,672
City and County of Honolulu | Honolulu Hale, Honolulu, HI 96813 | 126,976
Hawaii County Housing Agency | 50 Wailuku Drive, Hilo, HI 96720 | 64,900
Hawaii Public Housing Authority | P.O. Box 17907, Honolulu, HI 96808 | 65,500
Kauai, County of; DBA Kauai County Housing Agency | 4444 Rice Street, Suite 330, Lihue, HI 96766 | 126,959
Central Iowa Regional Housing Authority | 1201 Gateway Drive, Grimes, IA 50111 | 56,395
City of Cedar Rapids | 1211 6th Street, SW, Cedar Rapids, IA 52404 | 7,732
City of Des Moines Municipal Housing Agency | 100 East Euclid, Suite 101, Des Moines, IA 50313 | 66,000
City of Dubuque | 350 West 6th Street, Suite 312, Dubuque, IA 52001 | 68,847
City of Sioux City Housing Authority | 405 6th Street, Suite 107, Sioux City, IA 51102 | 129,818
Eastern Iowa Regional Housing Authority | 3999 Pennsylvania Avenue, Suite 200, Dubuque, IA 52002 | 65,650
Iowa City Housing Authority | 410 East Washington Street, Iowa City, IA 52240 | 119,322
Mid Iowa Regional Housing Authority | 1605 1st Avenue, No., Ste. 1, Fort Dodge, IA 50501 | 46,128
Municipal Housing Agency of Council Bluffs, IA | 505 South 6th Street, Council Bluffs, IA 51501 | 47,717
Municipal Housing Agency of the City of Fort Dodge | 700 South 17th Street, Fort Dodge, IA 50501 | 99,624
Northeast Nebraska Joint Housing Agency | 1122 Pierce Street, Sioux City, IA 51105 | 74,308
Region XII Regional Housing Authority | P.O. Box 663, 320 E 7th Street, Carroll, IA 51401 | 45,197
Southern Iowa Regional Housing Authority | 219 North Pine Street, Creston, IA 50801 | 42,986
Ada County Housing Authority | 1276 River Street, Suite 300, Boise, ID 83702 | 111,708
Boise City Housing Authority | 1276 River Street, Suite 300, Boise, ID 83702 | 111,710
Idaho Housing and Finance Association | P.O. Box 7899, 565 West Myrtle Street, Boise, ID 83707 | 223,977
Southwestern Idaho Cooperative Housing Authority | 1108 West Finch Drive, Nampa, ID 83651 | 132,654
Chicago Housing Authority | 60 East Van Buren, Chicago, IL 60605 | 524,746
DuPage Housing Authority | 711 East Roosevelt Road, Wheaton, IL 60187 | 88,450
Housing Authority of Champaign County | 205 West Park Avenue, Champaign, IL 61820 | 32,838
Housing Authority of Elgin | 120 South State Street, Elgin, IL 60123 | 66,000
Housing Authority of Marion County | 719 East Howard, Centralia, IL 62801 | 43,886
Housing Authority of the City of Bloomington | 104 East Wood Street, Bloomington, IL 61701 | 50,761
Housing Authority of the City of East St. Louis | 700 North 20th Street, East St. Louis, IL 62205 | 64,266
Housing Authority of the City of Rock Island | 227 21st Street, Rock Island, IL 61201 | 64,909
Kankakee County Housing Authority | P.O. Box 965, 185 North St. Joseph Avenue, Kankakee, IL 60901 | 42,428
Madison County Housing Authority | 1609 Olive Street, Collinsville, IL 62234 | 65,000
Menard County Housing Authority | P.O. Box 168, 101 West Sheridan, Petersburg, IL 62675 | 35,000
Peoria Housing Authority | 100 S. Richard Pryor Place, Peoria, IL 61605 | 48,213
Rockford Housing Authority | 223 South Winnebago Street, Rockford, IL 61102 | 184,763
Springfield Housing Authority | 200 North Eleventh Street, Springfield, IL 62703 | 43,272
Winnebago County Housing Authority | 3617 Delaware Street, Rockford, IL 61102 | 62,973
Housing Authority City of Peru | 701 E. Main Street, Peru, IN 46970 | 34,873
Housing Authority City of Vincennes | P.O. Box 1636, 501 Hart Street, Vincennes, IN 47591 | 85,550
Housing Authority of South Bend | 501 Alonzo Watson Drive, South Bend, IN 46601 | 36,384
Housing Authority of the City of Bloomington | 1007 North Summit Street, Bloomington, IN 47404 | 90,142
Housing Authority of the City of Columbus, Indiana | 799 McClure Road, Columbus, IN 47201 | 57,270
Housing Authority of the City of Fort Wayne, Indiana | P.O. Box 13489, 7315 South Hanna Street, Fort Wayne, IN 46869 | 80,000
Housing Authority of the City of Goshen | 1101 West Lincoln Avenue, Suite 100, Goshen, IN 46526 | 99,914
Housing Authority of the City of Hammond | 1402 173rd Street, Hammond, IN 46324 | 58,248
Housing Authority of the City of Marion, IN | 601 South Adams Street, Marion, IN 46953 | 34,497
Housing Authority of the City of Terre Haute | P.O. Box 3086, Terre Haute, IN 47803 | 109,986
Housing Authority, City of Elkhart | 1396 Benham Avenue, Elkhart, IN 46516 | 86,157
Indianapolis Housing Agency | 1919 North Meridian Street, Indianapolis, IN 46202 | 209,929
Knox County Housing Authority | 11 Powell Street, Bicknell, IN 47512 | 31,839
Kokomo Housing Authority of the City of Kokomo, IN | P.O. Box 1207, 210 East Taylor Street, Kokomo, IN 46903 | 40,836
Lafayette Housing Authority | 100 Executive Drive, Suite J, Lafayette, IN 47905 | 39,622
Logansport Housing Authority | 719 Spencer Street, Suite 100, Logansport, IN 46947 | 29,412
The Housing Authority of the City of New Albany, Indiana | P.O. Box 11, New Albany, IN 47150 | 48,000
City of Olathe Housing Authority | P.O. Box 768, 201 N. Cherry Street, Olathe, KS 66051 | 48,455
City of Wichita, Kansas Housing Authority | 332 North Riverview, Wichita, KS 67203 | 172,912
ECKAN Housing | P.O. Box 40, 1320 South Ash, Ottawa, KS 66067 | 34,000
Lawrence-Douglas County Housing Authority | 1600 Haskell Avenue, Lawrence, KS 66044 | 73,842
Manhattan Housing Authority | P.O. Box 1024, 300 North 5th Street, Manhattan, KS 66505 | 37,009
Salina Housing Authority | P.O. Box 1202, 469 South 5th Street, Salina, KS 67401 | 56,106
Topeka Housing Authority | 2010 South East California Avenue, Topeka, KS 66607 | 42,721
Barbourville Urban Renewal & CDA | P.O. Box 806, 338 Court Square, Barbourville, KY 40906 | 32,060
Boone County Fiscal Court | P.O. Box 536, Burlington, KY 41005 | 64,266
Campbell County Department of Housing | 1010 Monmouth Street, Newport, KY 41071 | 47,378
Campbellsville Housing & Redevelopment Authority | 400 Ingram, Campbellsville, KY 42718 | 28,075
City of Covington CDA | 2300 Madison Avenue, Covington, KY 41014 | 50,500
City of Paducah Section 8 Housing | Post Office Box 2267, 300 South 5th Street, Room 208, Paducah, KY 42002 | 37,826
City of Richmond Section 8 Housing | P.O. Box 250, Richmond, KY 40476 | 35,734
Cumberland Valley Regional Housing Authority | P.O. Box 806, 338 Court Square, Barbourville, KY 40906 | 46,602
Georgetown Housing Authority | 139 Scroggin Park, Georgetown, KY 40324 | 45,000
Housing Authority of Cynthiana | 148 Federal Street, Cynthiana, KY 41031 | 62,044
Housing Authority of Floyd County | 402 John M. Stumbo Drive, Langley, KY 41645 | 30,300
Housing Authority of Newport, KY | 30 East Eighth Street, Newport, KY 41072 | 51,696
Housing Authority of Somerset | P.O. Box 449, Somerset, KY 42502 | 83,000
Kentucky Housing Corporation | 1231 Louisville Road, Frankfort, KY 40601 | 150,938
Lexington-Fayette Urban County Housing Authority | 300 West New Circle Road, Lexington, KY 40505 | 49,044
Louisville Metro Housing Authority | 420 South Eighth Street, Louisville, KY 40203 | 378,984
Pineville Urban Renewal & Community | P.O. Box 460, 114 West Kentucky Avenue, Pineville, KY 40977 | 31,109
Housing Authority of the City of Monroe | 300 Harrison Street, Monroe, LA 71201 | 26,684
Housing Authority of the Parish of Natchitoches | 525 Fourth Street, Natchitoches, LA 71457 | 45,500
Jefferson Parish Housing Authority | 1718 Betty Street, Marrero, LA 70072 | 107,150
Terrebonne, Parish of | 809 Barrow Street, Houma, LA 70360 | 42,622
Acton Housing Authority | P.O. Box 681, 68 Windsor Avenue, Acton, MA 1720 | 47,000
Arlington Housing Authority | 4 Winslow Street, Arlington, MA 2474 | 66,000
Attleboro Housing Authority | 37 Carlon Street, Attleboro, MA 2703 | 53,555
Boston Housing Authority | 52 Chauncy Street, Boston, MA 2111 | 191,873
Braintree Housing Authority | 25 Roosevelt Street, Braintree, MA 2184 | 65,796
Chelmsford Housing Authority | 10 Wilson Street, Chelmsford, MA 1824 | 45,456
Chelsea Housing Authority | 54 Locke Street, Chelsea, MA 2150 | 64,266
Commonwealth of Massachusetts | 100 Cambridge Steet, Suite 300, Boston, MA 2114 | 543,762
Dedham Housing Authority | 163 Dedham Boulevard, Dedham, MA 2026 | 64,909
Fall River Housing Authority | 85 Morgan Street, Fall River, MA 2722 | 66,000
Framingham Housing Authority | 1 John J. Brady Drive, Framingham, MA 1702 | 65,650
Gardner Housing Authority | 116 Church Street, Gardner, MA 1440 | 49,763
Gloucester Housing Authority | P.O. Box 1599, 259 Washington Street, Gloucester, MA 1931 | 42,107
Greenfield Housing Authority | 1 Elm Terrace, Greenfield, MA 1301 | 123,869
Holyoke Housing Authority | 475 Maple Street, Suite One, Holyoke, MA 1040 | 96,396
Leominster Housing Authority | 100 Main Street, Leominster, MA 1453 | 47,299
Lowell Housing Authority | P.O. Box 60, 350 Moody Street, Lowell, MA 1853 | 120,371
Lynn Housing Authority & Neighborhood Development | 10 Church Street, Lynn, MA 1902 | 59,445
Medford Housing Authority | 121 Riverside Avenue, Medford, MA 2155 | 66,000
Melrose Housing Authority | 910 Main Street, Melrose, MA 2176 | 30,600
Methuen Housing Authority | 24 Mystic Street, Methuen, MA 1844 | 45,193
Milton Housing Authority | 65 Miller Avenue, Milton, MA 2186 | 66,000
North Andover Housing Authority | One Morkeski Meadows, North Andover, MA 1845 | 43,430
Plymouth Housing Authority | P.O. Box 3537, 69 Allerton Street, Plymouth, MA 2361 | 45,450
Quincy Housing Authority | 80 Clay Street, Quincy, MA 2170 | 66,000
Revere Housing Authority | 70 Cooledge Street, Revere, MA 2151 | 66,000
Somerville Housing Authority | 30 Memorial Road, Somerville, MA 2145 | 43,935
Taunton Housing Authority | 30 Olney Street, Suite B, Taunton, MA 2780 | 66,000
Wakefield Housing Authority | 26 Crescent Street, Wakefield, MA 1880 | 8,792
Wayland Housing Authority | 106 Main Street, Wayland, MA 1778 | 10,000
Woburn Housing Authority | 59 Campbell Street, Woburn, MA 1801 | 118,121
Worcester Housing Authority | 40 Belmont Street, Worcester, MA 1605 | 64,357
Baltimore County Department of Social Services Housing Office | 6401 York Road, Baltimore, MD 21212 | 128,874
Cecil County Housing Agency | 200 Chesapeake Boulevard, Suite 1800, Elkton, MD 21921 | 51,009
City of Westminster | 56 West Main Street, Westminster, MD 21157 | 43,705
Commissioners of Carroll County | 225 North Center Street, Westminster, MD 21157 | 53,013
Harford County Housing Agency | 15 South Main Street, Suite 106, Bel Air, MD 21014 | 99,637
Housing Authority of Baltimore City | 417 East Fayette Street, Room 923, Baltimore, MD 21202 | 64,909
Housing Authority of St. Mary's County, Maryland | 21155 Lexwood Drive, Suite C, Lexington Park, MD 20619 | 44,160
Housing Authority of the City of Frederick | 209 Madison Street, Frederick, MD 21701 | 100,912
Housing Authority of the City of Hagerstown | 35 W. Baltimore Street, Hagerstown, MD 21740 | 49,671
Housing Opportunities Commission | 10400 Detrick Avenue, Kensington, MD 20895 | 400,846
Howard County Government | 6751 Columbia Gateway Drive, Columbia, MD 21046 | 124,764
Maryland Development of Housing and Community Development | 100 Community Place, Crownsville, MD 21032 | 37,154
Queen Anne's County Housing Authority | P.O. Box 327, Centreville, MD 21617 | 43,050
Rockville Housing Enterprises | 621-A Southlawn Lane, Rockville, MD 20850 | 74,215
Augusta Housing Authority | 33 Union Street, Suite 3, Augusta, ME 4330 | 31,845
Bangor Housing Authority | 161 Davis Road, Bangor, ME 4401 | 44,653
City of Caribou | 25 High Street, Caribou, ME 4736 | 47,769
Housing Authority of the City of Old Town | 358 Main Street, Old Town, ME 4468 | 23,500
Lewiston Housing Authority | 1 College Street, Lewiston, ME 4240 | 39,185
Maine State Housing Authority | 353 Water Street, Augusta, ME 4330 | 53,499
Portland Housing Authority | 14 Baxter Boulevard, Portland, ME 4101 | 51,814
Westbrook Housing Authority | 30 Liza Harmon Drive, Westbrook, ME 4092 | 39,807
Grand Rapids Housing Commission | 1420 Fuller Avenue, SE, Grand Rapids, MI 49507 | 125,503
Kent County Housing Commission | 82 Ionia Avenue, NW, Grand Rapids, MI 49503 | 114,776
Michigan State Housing Development Authority | 735 E. Michigan Avenue, P.O. Box 30044, Lansing, MI 48909 | 528,000
Muskegon Housing Commission | 1080 Terrace, Muskegon, MI 49442 | 43,313
Plymouth Housing Commission | 1160 Sheridan Street, Plymouth, MI 48170 | 43,595
Pontiac Housing Commission | 132 Franklin Blvd, Pontiac, MI 48341 | 47,622
Saginaw Housing Commission | 1803 Norman Street, P.O. Box 3225, Saginaw, MI 48605 | 85,636
Traverse City Housing Commission | 10200 East Carter Centre, Traverse City, MI 49684 | 65,650
Westland Housing Commission | 32715 Dorsey Road, Westland, MI 48186 | 32,742
Wyoming Housing Commission | 2450 36th Street, Southwest, Wyoming, MI 49519 | 66,000
Brainerd Housing and Redevelopment Authority | 324 East River Road, Brainerd, MN 56401 | 43,448
Dakota County CDA | 1228 Town Centre Drive, Eagan, MN 55123 | 24,386
Housing & Redevelopment Authority of Clay County | P.O. Box 99, 116 Center Avenue East, Dilworth, MN 56529 | 64,452
Housing & Redevelopment Authority of Duluth, MN | P.O. Box 16900, 222 East Second Street, Duluth, MN 55816 | 64,251
Housing & Redevelopment Authority of Virginia, MN | 442 Pine Mill Court, Virginia, MN 55792 | 57,556
Housing Authority of St. Louis Park | 5005 Minnetonka Boulevard, St. Louis Park, MN 55416 | 20,155
Mankato Economic Development Authority | P.O. Box 3368, 10 Civic Center Plaza, Mankato, MN 56002 | 104,580
Metropolitan Council Housing and Redevelopment Authority | 390 Robert Street North, St. Paul, MN 55101 | 62,637
Northwest Minnesota Multi-County HRA | 205 Garfield Avenue, P.O. Box 128, Mentor, MN 56736 | 37,710
South Central MN Multi-County HRA | 410 E Jachson Street, Suite 300, Mankato, MN 56001 | 74,961
Southeastern Minnesota Multi-County HRA | 134 East Second Street, Wabasha, MN 55981 | 35,707
Washington County HRA | 321 Broadway Avenue, Saint Paul Park, MN 55071 | 34,194
Franklin County Public Housing Authority | P.O. Box 920, Hillsboro, MO 63050 | 42,565
Housing Authority of Kansas City, Missouri | 301 East Armour, Kansas City, MO 64111 | 157,144
Housing Authority of St. Louis County | 8865 Natural Bridge Road, St. Louis, MO 63121 | 100,901
Housing Authority of the City of Columbia, Missouri | 201 Switzler Street, Columbia, MO 65203 | 49,389
Housing Authority of the City of Liberty, Missouri | 17 East Kansas Street, Liberty, MO 64068 | 43,765
Housing Authority of the City of Springfield, Missouri | 421 West Madison Street, Springfield, MO 65806 | 26,296
Jasper County Public Housing Agency | P.O. Box 207, 302 Joplin Street, Joplin, MO 64802 | 27,636
North East Community Action Corporation dba Lincoln Co. PHA | P.O. Box 470, 16 North Court Street, Bowling Green, MO 63334 | 109,689
Phelps County Public Housing Agency | #4 Industrial Drive, St. James, MO 65559 | 53,458
Ripley County Public Housing Agency | 3019 Fair Street, Poplar Bluff, MO 63901 | 33,540
Saint Francois County Public Housing Agency | 107 Industrial Drive, Box N, Park Hills, MO 63601 | 30,909
St. Clair County PHA | P.O. Box 125, 106 West Fourth Street, Appleton, MO 64724 | 122,448
St. Louis Housing Authority | 4100 Lindell Boulevard, St. Louis, MO 63108 | 60,581
The Housing Authority of the City of Saint Charles | 1041 Olive Street, Saint Charles, MO 63301 | 46,589
Housing Authority of the City of Biloxi | P.O. Box 447, 330 Benachi Avenue, Biloxi, MS 39533 | 40,804
Mississippi Regional Housing Authority II | 900 Molly Barr Road, Oxford, MS 38655 | 66,000
Mississippi Regional Housing Authority IV | P.O. Box 1051, Columbus, MS 39703 | 37,467
Mississippi Regional Housing Authority No. VII | P.O. Box 430, McComb, MS 39649 | 60,436
Mississippi Regional Housing Authority VI | P.O. Drawer 8746, 2180 Terry Road, Jackson, MS 39284 | 114,730
MS Regional Housing Authority No. V | 298 Northside Drive, Newton, MS 39345 | 32,575
North Delta Regional Housing Authority | #4 East Second Street, P.O. Drawer 1148, Clarksdale, MS 38614 | 36,724
Tennessee Valley Regional Housing Authority | P.O. Box 1329, Corinth, MS 38835 | 88,172
The Housing Authority of the City of Jackson, MS | 2747 Livingston Road, Jackson, MS 39213 | 51,206
The Housing Authority of the City of Meridian | 2425 E. Street, Meridian, MS 39301 | 48,965
Housing Authority of the City of Billings | 2415 1st Avenue North, Billings, MT 59101 | 40,241
Missoula Housing Authority | 1235 34th Street, Missoula, MT 59801 | 132,000
Charlotte Housing Authority | 1301 South Boulevard, Charlotte, NC 28203 | 47,282
Chatham County Housing Authority | P.O. Box 637, 190 Sanford Road, Pittsboro, NC 27312 | 47,436
City of Concord Housing Department | P.O. Box 308, 283 Harold Goodman Circle, Concord, NC 28026 | 37,404
East Spencer Housing Authority | P.O. Box 367, 206 South Long Street, East Spencer, NC 28039 | 44,200
Eastern Carolina Human Services Agency, Inc | 246 Georgetown Road, Jacksonville, NC 28540 | 65,561
Gastonia Housing Authority | P.O. Box 2398, 340 West Long Avenue, Gastonia, NC 28053 | 46,827
Greensboro Housing Authority | 450 N. Church Street, Greensboro, NC 27401 | 122,959
Housing Authority of the City of Asheville | 165 South French Broad Avenue, Asheville, NC 28801 | 71,600
Housing Authority of the City of Greenville | 1103 Broad Street, Greenville, NC 27834 | 59,488
Housing Authority of the City of High Point | 500 East Russell Avenue, High Point, NC 27261 | 45,133
Housing Authority of the City of Kinston, North Carolina | 608 North Queen Street, Kinston, NC 28501 | 40,911
Housing Authority of the City of Wilmington North Carolina | 1524 South 16th Street, Wilmington, NC 28401 | 99,943
Housing Authority of the City of Winston Salem | 500 West Fourth Street, Winston Salem, NC 27101 | 53,075
Housing Authority of the Town of Laurinburg | 1300 Woodlawn Street, Laurinburg, NC 28352 | 59,839
Isothermal Planning & Development Commission | P.O. Box 841, 111 West Court Street, Rutherford, NC 28139 | 35,070
Mid-East Regional Housing Authority | 809 Pennsylvania Avenue, Washington, NC 27889 | 40,000
Mountain Projects, Inc | 2251 Old Balsam Road, Waynesville, NC 28786 | 33,106
Northwestern Regional Housing Authority | P.O. Box 2510, 869 Highway 105 Extension, Suite 10, Boone, NC 28607 | 204,839
Rowan County Housing Authority | 310 Long Meadow Drive, Salisbury, NC 28147 | 50,000
Sandhills Community Action Program, Inc | 103 Saunders Street, Carthage, NC 28327 | 32,923
Sanford Housing Authority | 1000 Carthage Street, Sanford, NC 27330 | 43,788
Statesville Housing Authority | 110 West Allison Street, Statesville, NC 28677 | 44,524
Twin Rivers Opportunities, Inc | 318 Craven Street, New Bern, NC 28563 | 75,435
Western Carolina Community Action | P.O. Box 685, 220 King Creek Boulevard 28792, Hendersonville, NC 28793 | 64,447
Minot Housing Authority | 108 Burdick Expressway East, Minot, ND 58701 | 42,334
The Housing Authority of the City of Grand Forks ND | 1405 1 Avenue North, Grand Forks, ND 58203 | 147,769
Douglas County Housing Authority | 5404 No. 107th Plaza, Omaha, NE 68134 | 51,000
Goldenrod Regional Housing Agency | Box 799, 1017 Avenue East, Wisner, NE 68791 | 35,703
Housing Authority of the City of Lincoln | 5700 R Street, Lincoln, NE 68505 | 59,751
Housing Authority of the City of Omaha | 540 S. 27th Street, Omaha, NE 68105 | 85,781
Kearney Housing Agency | 2715 Avenue I OFC, Kearney, NE 68847 | 7,535
Dover Housing Authority | 62 Whittier Street, Dover, NH 3820 | 66,000
Keene Housing Authority | 831 Court Street, Keene, NH 3431 | 64,950
Manchester Housing and Redevelopment Authority | 198 Hanover Street, Manchester, NH 3104 | 44,110
New Hampshire Housing Finance Authority | 32 Constitution Drive, Bedford, NH 3110 | 222,417
Atlantic City Housing Authority | 227 North Vermont Avenue, 17th Floor, Atlantic, NJ 8401 | 88,257
County of Burlington, New Jersey | P.O. Box 6000, Mount Holly, NJ 8060 | 66,000
Fort Lee Housing Authority | 1403 Teresa Drive, Fort Lee, NJ 7024 | 99,970
Housing Authority City of Long Branch | P.O. Box 337, Long Branch, NJ 7740 | 130,000
Housing Authority County of Morris | 99 Ketch Road, Morristown, NJ 7960 | 31,845
Housing Authority of Gloucester County | 100 Pop Moylan Boulevard, Deptford, NJ 8096 | 85,090
Housing Authority of the Borough of Glassboro | 737 Lincoln Boulevard, Glassboro, NJ 8028 | 47,123
Housing Authority of the Borough of Madison | 15 Chateau Thierry Avenue, Madison, NJ 7940 | 54,145
Housing Authority of the City of Camden | 2021 Watson Street, Camden, NJ 8105 | 39,938
Housing Authority of the City of East Orange | 160 Halsted Street, East Orange, NJ 7018 | 132,000
Housing Authority of the City of Jersey City | 400 U.S. Highway #1, Jersey City, NJ 7306 | 110,617
Housing Authority of the City of Paterson | 60 Van Houten Street, Paterson, NJ 7505 | 49,395
Housing Authority of the City of Perth Amboy | 881 Amboy Avenue, P.O. Box 390, Perth Amboy, NJ 8862 | 196,994
Housing Authority of the Town of Boonton | 125 Chestnut Street, Boonton, NJ 7005 | 65,572
Housing Authority of the Township of Brick | 165 Chambers Bridge Road, Brick, NJ 8723 | 15,578
Housing Authority of the Township of Woodbridge | 20 Bunns Lane, Woodbridge, NJ 7095 | 21,847
Housing Authority Town of Dover | 215 E. Blackwell Street, Dover, NJ 7801 | 63,554
Lakewood Housing Authority | P.O. Box 1599, 317 Sampson Avenue, Lakewood, NJ 8701 | 64,909
Lakewood Tenants Organization, Inc | P.O. Box 856, 600 West Kennedy Boulevard, Lakewood, NJ 8701 | 115,691
Millville Housing Authority | 309 Buck Street, Millville, NJ 8332 | 45,905
Monmouth County Public Housing Agency | 3000 Kozloski Road, Freehold, NJ 8724 | 132,000
The Housing Authority of Plainfield | 510 East Front Street, Plainfield, NJ 7060 | 66,000
Bernalillo County Housing Department | 1900 Bridge Boulevard, SW., Albuquerque, NM 87105 | 116,037
Clovis Housing & Redevelopment Agency, Inc | P.O. Box 1240, 2101 West Grand Avenue, Clovis, NM 88102 | 40,804
Region VI Housing Authority | 106 E. Reed St., Roswell, NM 88201 | 54,359
Santa Fe Civic Housing Authority | 664 Alta Vista Street, Santa Fe, NM 87505 | 65,650
Santa Fe County Housing Authority | 52 Camino de Jacobo, Sante Fe, NM 87507 | 109,868
Taos County Housing Authority | 525 Ranchitos Road, Box 4239 NDCBU, Taos, NM 87571 | 46,925
Truth or Consequences Housing Authority | 108 South Cedar, Truth or Consequences, NM 87901 | 45,193
Housing Authority of the City of Las Vegas | 340 North 11th Street, Las Vegas, NV 89101 | 193,182
Housing Authority of the City of North Las Vegas | 1632 Yale Street, North Las Vegas, NV 89030 | 111,513
Housing Authority of the City of Reno | 1525 East 9th Street, Reno, NV 89512 | 43,453
Housing Authority of the County of Clark, Nevada | 5390 East Flamingo Road, Las Vegas, NV 89122 | 110,366
Amsterdam Housing Authority | 52 Division Street, Amsterdam, NY 12010 | 49,433
City of Fulton Community Development Agency | 125 West Broadway, Fulton, NY 13069 | 29,917
City of Johnstown | 41 East Main Street, Johnstown, NY 12095 | 32,320
City of North Tonawanda, Belmont Shelter Corp., Agent | 1195 Main Street, Buffalo, NY 14209 | 47,626
City of Oswego Community Development Office | 20 West Oneida St., 3rd Floor, Oswego, NY 13126 | 46,211
City of Utica | 1 Kennedy Plaza, Utica, NY 13502 | 29,723
Cohoes Housing Authority | 100 Manor Sites, Cohoes, NY 12047 | 56,007
Erie County PHA Consortium, Belmont Shelter Corp | 1195 Main Street, Buffalo, NY 14209 | 144,198
Geneva Housing Authority | 41 Lewis Street, P.O. Box 153, Geneva, NY 14456 | 49,921
Gloversville Housing Authority | 181 West Street, Gloversville, NY 12078 | 48,230
Ithaca Housing Authority | 800 South Plain Street, Ithaca, NY 14850 | 62,560
Jamestown Housing Authority | 110 West Third Street, Jamestown, NY 14701 | 34,000
Monticello Housing Authority | 76 Evergreen Drive, Monticello, NY 12701 | 35,350
Municipal Housing Authority of the City of Schenectady | 375 Broadway, Schenectady, NY 12305 | 46,887
New Rochelle Municipal Housing Authority | 50 Sickles Avenue, New Rochelle, NY 10801 | 64,266
North Fork Housing Alliance, Inc | 116 South Street, Greenport, NY 11944 | 37,500
North Hempstead Housing Authority Inc | Pond Hill Road, Great Neck, NY 11020 | 51,005
NYS Housing Trust Fund Corp/Division of Housing & Comm. Ren | 25 Beaver Street, #732, New York, NY 10004 | 1,153,678
Poughkeepsie Housing Authority | 4 Howard Street, Poughkeepsie, NY 12601 | 59,590
Ramapo Housing Authority | 38 Pondview Drive, Suffern, NY 10901 | 25,000
Rental Assistance Corporation of Buffalo | 470 Franklin Street, Buffalo, NY 14202 | 145,035
Rochester Housing Authority | 675 West Main Street, Rochester, NY 14611 | 218,060
Syracuse Housing Authority | 516 Burt Street, Syracuse, NY 13202 | 117,435
Town of Babylon Housing Assistance Agency | 281 Phelps Lane, Room #9, North Babylon, NY 11703 | 48,612
Town of Brookhaven | 1 Independence Hill, Farmingville, NY 11738 | 57,125
Town of Colonie | Memorial Town Hall, Newtonville, NY 12128 | 51,565
Town of Guilderland | Town Hall Route 20, Guilderland, NY 12084 | 51,005
Town of Islip Housing Authority | 963 Montauk Highway, Oakdale, NY 11769 | 66,000
Town of Poughkeepsie Section 8 Housing Program | 1 Overocker Road, Poughkeepsie, NY 12603 | 52,829
Town of Rotterdam | Town Hall—Vinewood Avenue, Schenectady, NY 12306 | 53,717
Town of Smithtown | 99 West Main Street, Smithtown, NY 11787 | 48,726
Troy Housing Authority | One Eddy's Lane, Troy, NY 12180 | 65,714
Village of Ballston Spa | 66 Front Street, Ballston Spa, NY 12020 | 32,643
Village of Corinth | 260 Main Street, Corinth, NY 12822 | 32,582
Village of Highland Falls | 303 Main Street, Highland Falls, NY 10928 | 32,320
Village of Kiryas Joel Housing Authority | 51 Forest Road, Suite 360, Monroe, NY 10950 | 64,905
Village of Scotia | 4 North Ten Broeck Street, Scotia, NY 12302 | 28,212
Adams Metropolitan Housing Authority | 401 East Seventh Street, Manchester, OH 45144 | 38,904
Akron Metropolitan Housing Authority | 100 West Cedar Street, Akron, OH 44307 | 233,234
Allen Metropolitan Housing Authority | 600 South Main Street, Lima, OH 45804 | 38,723
Cambridge Metropolitan Housing Authority | P.O. Box 1388, 1100 Maple Court, Cambridge, OH 43725 | 32,253
Chillicothe Metropolitan Housing Authority | 178 West Fourth Street, Chillicothe, OH 45601 | 33,966
City of Middletown, Ohio | 1040 Central Avenue, Middletown, OH 45044 | 80,676
Clinton Metropolitan Housing Authority | 478 Thorne Avenue, Wilmington, OH 45177 | 45,450
CMHA | 16 West Central Parkway, Cincinnati, OH 45202 | 332,957
Columbus Metropolitan Housing Authority | 880 East 11th Avenue, Columbus, OH 43211 | 95,304
Cuyahoga Metropolitan Housing Authority | 3400 Hamilton Avenue, Cleveland, OH 44114 | 44,583
Dayton Metropolitan Housing Authority | P.O. Box 8750, 400 Wayne Avenue, Dayton, OH 45401 | 119,341
Delaware Metropolitan Housing Authority | P.O. Box 1292, 222 Curtis Street, Delaware, OH 43015 | 46,075
Erie Metropolitan Housing Authority | 322 Warren Street, Sandusky, OH 44870 | 50,633
Fairfield Metropolitan Housing Authority | 315 North Columbus Street, Suite 200, Lancaster, OH 43130 | 51,608
Fayette Metropolitan Housing Authority | 121 E. East Street, Washington Court House, OH 43160 | 32,907
Jackson Metropolitan Housing Authority | P.O. Box 619, 249 West 13th Street, Wellston, OH 45692 | 39,846
Jefferson Metropolitan Housing Authority | 815 North 6th Avenue, Steubenville, OH 43952 | 28,280
Knox Metropolitan Housing Authority | 236 South Main Street, Suite 201, Mount Vernon, OH 43050 | 45,333
Lake Metropolitan Housing Authority | 189 First Street, Painesville, OH 44077 | 77,214
Logan County Metropolitan Housing Authority | 116 N. Everett Street, Bellefontaine, OH 43311 | 74,312
Lorain Metropolitan Housing Authority | 1600 Kansas Avenue, Lorain, OH 44052 | 48,628
Lucas Metropolitan Housing Authority | P.O. Box 477, 435 Nebraska, Toledo, OH 43604 | 172,180
Medina Metropolitan Housing Authority | 850 Walter Road, Medina, OH 44256 | 119,270
Meigs Housing Authority | 117 East Memorial Drive, Pomeroy, OH 45769 | 14,504
Morgan Metropolitan Housing Authority | 4580 N Street, Route 376 NW., McConnelsville, OH 43756 | 45,645
Morrow Metropolitan Housing Authority | 81 North Rich Street, Mt. Gilead, OH 43338 | 36,849
Parma Public Housing Agency | 1440 Rockside Road, Suite 306, Parma, OH 44134 | 40,400
Pickaway Metro Housing Authority | 176 Rustic Drive, Circleville, OH 43113 | 35,267
Pike Metropolitan Housing Authority | 2626 Shyville Road, Piketon, OH 45661 | 33,000
Portage Metropolitan Housing Authority | 2832 State Route 59, Ravenna, OH 44266 | 37,704
Springfield Metropolitan Housing Authority | 101 West High Street, Springfield, OH 45502 | 43,765
Trumbull Metropolitan Housing Authority | 4076 Youngstown Road, SE., Suite 101, Warren, OH 44484 | 64,908
Tuscarawas Metropolitan Housing Authority | 134 Second Street, Southwest, New Philadelphia, OH 44663 | 54,602
Vinton Metropolitan Housing Authority | 310 West High Street, Post Office Box 487, McArthur, OH 45651 | 116,392
Wayne Metropolitan Housing Authority | 345 North Market Street, Wooster, OH 44691 | 42,670
Youngstown Metropolitan Housing Authority | 131 W. Boardman Street, Youngstown, OH 44503 | 57,785
Zanesville Metropolitan Housing Authority | 407 Pershing Road, Zanesville, OH 43701 | 108,845
Housing Authority of the City of Lawton | 609 SW. F Avenue, Lawton, OK 73501 | 32,320
Housing Authority of the City of Norman | 700 North Berry Road, Norman, OK 73069 | 48,243
Housing Authority of the City of Shawnee, OK | P.O. Box 3427, 601 West 7th Street, Shawnee, OK 74801 | 49,699
Housing Authority of the City of Stillwater | 807 S. Lowry, Stillwater, OK 74074 | 43,428
Housing Authority of the City of Tulsa | 415 East Independence, Tulsa, OK 74106 | 38,520
Oklahoma City Housing Authority | 1700 Northeast Fourth Street, Oklahoma City, OK 73117 | 59,848
Central Oregon Regional Housing Authority | 405 Southwest 6th Street, Redmond, OR 97756 | 132,000
Housing Authority of Yamhill County | P.O. Box 865, 135 Northeast Dunn Place, McMinnville, OR 97128 | 192,556
Housing Authority & Community Services Agency of Lane County | 177 Day Island Road, Eugene, OR 97401 | 105,623
Housing Authority & Urban Renewal Agency of Polk County | P.O. Box 467, 204 Southwest Walnut Avenue, Dallas, OR 97338 | 66,000
Housing Authority of Clackamas County | P.O. Box 1510, Oregon, OR 97045 | 64,887
Housing Authority of Douglas County | 902 West Stanton Street, Roseburg, OR 97470 | 32,750
Housing Authority of Jackson County | 2251 Table Rock Road, Medford, OR 97501 | 92,502
Housing Authority of Malheur County | 959 Fortner Street, Ontario, OR 97914 | 23,152
Housing Authority of Portland | 135 Southwest Ash, Portland, OR 97204 | 249,108
Housing Authority of the City of Salem | 360 Church Street SE., Salem, OR 97301 | 194,310
Housing Authority of Washington County | 111 North East Lincoln Street, Suite 200-L, Hillsboro, OR 97124 | 101,096
Linn-Benton Housing Authority | 1250 Queen Avenue Southeast, Albany, OR 97322 | 118,299
Marion County Housing Authority | P.O. Box 14500, 555 Court Street Northeast, Salem, OR 97309 | 53,530
Mid Columbia Housing Authority | 312 Court Street, Suite 419, Dalles, OR 97058 | 82,190
Northeast Oregon Housing Authority | P.O. Box 3357, 2608 May Lane, La Grande, OR 97850 | 83,328
Northwest Oregon Housing Authority | P.O. Box 1149, 147 South Main Street, Warrenton, OR 97146 | 32,857
Adams County Housing Authority | 40 East High Street, Gettysburg, PA 17325 | 47,295
Allegheny County Housing Authority | 625 Stanwix Street, Pittsburgh, PA 15222 | 98,893
Altoona Housing Authority | 2700 Pleasant Valley Boulevard, Altoona, PA 16602 | 55,573
Clarion County Housing Authority | 8 West Main Street, Clarion, PA 16214 | 39,833
Delaware County Housing Authority | 1855 Constitution Avenue, Woodlyn, PA 19094 | 43,066
Fayette County Housing Authority | 624 Pittsburgh Road, Uniontown, PA 15401 | 50,000
Housing Authority of Indiana County | 104 Philadelphia Street, Indiana, PA 15701 | 25,908
Housing Authority of Northumberland County | 50 Mahoning Street, Milton, PA 17847 | 33,206
Housing Authority of the City of Erie | 606 Holland Street, Erie, PA 16501 | 45,450
Housing Authority of the City of Lancaster | 325 Church Street, Lancaster, PA 17602 | 51,285
Housing Authority of the City of Pittsburgh | 200 Ross Street, Pittsburgh, PA 15219 | 189,090
Housing Authority of the City of York | P.O. Box 1963, 31 S. Broad St., York, PA 17403 | 40,707
Housing Authority of the County of Armstrong | 350 South Jefferson Street, Kittanning, PA 16201 | 26,064
Housing Authority of the County of Butler | 114 Woody Drive, Butler, PA 16001 | 89,164
Housing Authority of the County of Chester | 30 West Barnard Street, Suite 2, West Chester, PA 19382 | 100,900
Housing Authority of the County of Dauphin | P.O. Box 7598, 501 Mohn Street, Steelton, PA 17113 | 120,303
Housing Authority of the County of Union | 1610 Industrial Boulevard, Suite 400, Lewisburg, PA 17837 | 46,378
Housing/Redevelopment Authority of Cumberland County | 114 North Hanover Street, Carlisle, PA 17013 | 39,551
Lancaster County Housing Authority | 202 North Prince Street, Suite 400, Lancaster, PA 17603 | 102,568
Lycoming Housing Authority | 1941 Lincoln Drive, Williamsport, PA 17701 | 18,076
Montgomery County Housing Authority | 104 West Main Street, Suite 1, Norristown, PA 19401 | 106,353
Philadelphia Housing Authority | 12 South 23rd Street, 6th Floor, Philadelphia, PA 19103 | 291,220
Westmoreland County Housing Authority | 154 South Greengate Road, Greensburg, PA 15601 | 75,923
Municipality of Aguas Buenas | P.O. Box 128, Aguas Buenas, PR 703 | 23,108
Municipality of Juana Diaz | P.O. Box 1409, Calle Degetau #35, Juana Diaz, PR 795 | 23,656
Municipality of San German | Avenida Universidad Interamericana #136, San German, PR 683 | 17,416
Central Falls Housing Authority | 30 Washington Street, Central Falls, RI 2863 | 63,453
Coventry Housing Authority | 14 Manchester Circle, Coventry, RI 2816 | 50,556
Cumberland Housing Authority | 573 Mendon Road, Suite 4, Cumberland, RI 2864 | 66,000
East Providence Housing Authority | 99 Goldsmith Avenue, East Providence, RI 2914 | 38,764
Housing Authority of the City of Providence | 100 Broad Street, Providence, RI 2903 | 125,228
Housing Authority of the Town of East Greenwich | 146 First Avenue, East Greenwich, RI 2818 | 55,431
Narragansett Housing Authority | 25 Fifth Avenue, Narragansett, RI 2882 | 76,427
Rhode Island Housing | 44 Washington Street, Providence, RI 2903 | 60,000
Town of Bristol Housing Authority | 1014 Hope Street, Bristol, RI 2809 | 36,360
Town of North Providence Housing Authority | 945 Charles Street, North Providence, RI 2904 | 55,151
Warwick Housing Authority | 25 Easton Avenue, Warwick, RI 2888 | 41,000
Beaufort Housing Authority | Post Office Box 1104, Beaufort, SC 29901 | 25,472
Housing Authority of Anderson | 1335 East River Street, Anderson, SC 29624 | 37,861
Myrtle Beach Housing Authority | P.O. Box 2468, 605 10th Avenue North, Myrtle Beach, SC 29578 | 80,948
North Charleston Housing Authority | 2170 Ashley Phosphate Road, Suite 700, North Charleston, SC 29406 | 45,450
The Housing Authority City of Charleston | 550 Meeting Street, Charleston, SC 29403 | 87,729
The Housing Authority of the City of Greenville, SC | 511 Augusta Street, Greenville, SC 29605 | 37,623
The Housing Authority of the City of Spartanburg | 201 Caulder Avenue, P.O. Box 2828, Spartanburg, SC 29304 | 93,017
Brookings County Housing and Redevelopment Commission | 1310 Main Avenue South, Brookings, SD 57006 | 37,080
Mobridge Housing and Redevelopment Commission | P.O. Box 370, 116 4th Street West, Mobridge, SD 57601 | 33,558
Sioux Falls Housing and Redevelopment Commission | 630 South Minnesota Avenue, Sioux Falls, SD 57104 | 72,411
Chattanooga Housing Authority | 801 North Holtzclaw Avenue, Chattanooga, TN 37404 | 107,709
Crossville Housing Authority | P.O. Box 425, Crossville, TN 38557 | 49,583
East Tennessee Human Resource Agency, Inc | 9111 Cross Park Drive, Suite D-100, Knoxville, TN 37923 | 34,065
Jackson Housing Authority | 125 Preston Street, Jackson, TN 38301 | 100,000
Kingsport Housing & Redevelopment Authority | P.O. Box 44, Kingsport, TN 37662 | 84,430
Knoxville's Community Development Corporation | 901 North Broadway, P.O. Box 3550, Knoxville, TN 37927 | 90,021
Memphis Housing Authority | 700 Adams Avenue, Memphis, TN 38105 | 84,674
Metropolitan Development and Housing Authority | 701 South 6th Street, Nashville, TN 37206 | 181,797
Oak Ridge Housing Authority | 10 Van Hicks Lane, Oak Ridge, TN 37830 | 35,927
TN Housing Development Agency | 404 James Robertson Parkway, Suite 1200, Nashville, TN 37243 | 198,813
City of Amarillo | 509 East 7th, Amarillo, TX 79105 | 35,300
City of Garland Housing Agency | 210 Carver, Suite 201B, Garland, TX 75040 | 50,355
City of Longview Housing Authority | P.O. Box 1952, 1202 North Sixth Street, Longview, TX 75606 | 46,609
Deep East Texas Council of Governments | 210 Premier Drive, Jasper, TX 75951 | 71,002
Galveston Housing Authority | 4700 Broadway Suite A-100, Galveston, TX 77551 | 108,754
Housing Authority of the City of Anthony | P.O. Box 1710, 1007 Franklin St., Anthony, TX 79821 | 37,245
Housing Authority of the City of Arlington | 501 W. Sanford Street, Suite 20, Arlington, TX 76001 | 106,330
Housing Authority of the City of Austin | P.O. Box 6159, Austin, TX 78762 | 128,704
Housing Authority of the City of Beaumont | 1890 Laurel, Beaumont, TX 77701 | 80,542
Housing Authority of the City of Brownsville | P.O. Box 4420, 2606 Boca Chica Blvd, Brownsville, TX 78523 | 83,868
Housing Authority of the City of El Paso | 5300 Paisano, El Paso, TX 79905 | 106,612
Housing Authority of the City of Fort Worth | 1201 E. 13th Street, Fort Worth, TX 76102 | 43,946
Housing Authority of the City of Kingsville | 1000 West Corral, Kingsville, TX 78363 | 53,744
Housing Authority of the City of Lubbock | 1708 Crickets Avenue, Lubbock, TX 79401 | 39,000
Housing Authority of the City of Pharr | 104 West Polk, Pharr, TX 78577 | 59,600
Housing Authority of the City of Plano | 1740 Avenue G, Plano, TX 75074 | 35,028
Housing Authority of the City of Port Isabel | P.O. Box 1196, Port Isabel, TX 78578 | 25,757
Housing Authority of the City of San Angelo, TX | 420 E. 28th Street, San Angelo, TX 76903 | 48,863
Housing Authority of the City of Waco | P.O. Box 978, 4400 Cobbs Drive, Waco, TX 76703 | 72,465
Housing Authority of the County of Hidalgo | 1800 N. Texas Blvd., Weslaco, TX 78596 | 37,091
Houston Housing Authority | 2640 Fountain View Drive, Suite 400, Houston, TX 77057 | 89,784
Laredo Housing Authority | 2000 San Francisco Ave., Laredo, TX 78040 | 44,608
Midland County Housing Authority | 1710 Edwards Street, Midland, TX 79701 | 41,629
Mission Housing Authority | 1300 East 8th, Mission, TX 78572 | 62,023
San Antonio Housing Authority | 818 South Flores, San Antonio, TX 78204 | 97,853
San Marcos Housing Authority | 1201 Thorpe Lane, San Marcos, TX 78666 | 50,250
South Plains Regional Housing Authority | P.O. Box 610, 1611 FM 300, Levelland, TX 79336 | 33,766
Tarrant County | 100 East Weatherford, Suite 500, Fort Worth, TX 76196 | 107,692
Texoma Council of Governments | 1117 Gallagher Drive, Sherman, TX 75090 | 60,828
The Housing Authority of the City of Dallas, TX (DHA) | 3939 North Hampton Road, Dallas, TX 75212 | 368,647
Walker County Housing Authority | 340 HWY. 75, North #E, Huntsville, TX 77320 | 45,000
Cedar City Housing Authority | 364 S 100 E, Cedar City, UT 84720 | 51,823
Davis Community Housing Authority | P.O. Box 328, 352 South 200 West, Suite 1, Farmington, UT 84025 | 38,205
Housing Authority of Salt Lake City | 1776 South West Temple, Salt Lake City, UT 84115 | 100,265
Housing Authority of the City of Ogden | 2661 Washington Boulevard, Suite 102, Ogden, UT 84401 | 52,624
Housing Authority of the County of Salt Lake | 3595 South Main Street, Salt Lake City, UT 84115 | 90,136
Housing Authority of Utah County | 240 East Center Street, Provo, UT 84606 | 53,539
Provo City Housing Authority | 650 West 100 North, Provo, UT 84601 | 79,750
Bristol Redevelopment and Housing Authority | 809 Edmond Street, Bristol, VA 24201 | 37,177
Chesapeake Redevelopment & Housing Authority | 1468 S. Military Highway, Chesapeake, VA 23320 | 49,488
City of Virginia Beach | 2424 Courthouse Road, Virginia Beach, VA 23456 | 47,955
County of Loudoun | 102 Heritage Way Northeast, Suite 103, Leesburg, VA 20176 | 66,000
Danville Redevelopment and Housing Authority | 135 Jones Crossing, Danville, VA 24541 | 35,379
Hampton Redevelopment and Housing Authority | P.O. Box 280, 22 Lincoln Street, Hampton, VA 23669 | 45,803
Harrisonburg Redevelopment and Housing Authority | 286 Kelley Street, Harrisonburg, VA 22802 | 23,546
James City County | 5320 Palmer Lane, Suite 1A, Williamsburg, VA 23188 | 47,504
Newport News Redevelopment and Housing Authority | 227 27th Street, Newport News, VA 23607 | 130,457
Norfolk Redevelopment and Housing Authority | 201 Granby Street, Norfolk, VA 23510 | 126,900
Portsmouth Redevelopment & Housing Authority | 801 Water Street, 2nd Floor, Portsmouth, VA 23704 | 41,954
Prince William County Housing and Community Development | 15941 Donald Curtis Drive, Suite 112, Woodbridge, VA 22191 | 107,756
Richmond Redevelopment and Housing Authority | 901 Chamberlayne Parkway, Richmond, VA 23220 | 130,384
Roanoke Redevelopment and Housing Authority | 2624 Salem Turnpike, Northwest, Roanoke, VA 24017 | 50,448
Suffolk Redevelopment and Housing Authority | 530 East Pinner Street, Suffolk, VA 23434 | 51,736
Virginia Housing Development Authority | 601 South Belvidere Street, Richmond, VA 23220 | 194,130
Waynesboro Redevelopment and Housing Authority | P.O. Box 1138, 1700 New Hope Road, Waynesboro, VA 22980 | 38,263
Burlington Housing Authority | 65 Main Street, Burlington, VT 5401 | 99,681
Vermont State Housing Authority | One Prospect Street, Montpelier, VT 5602 | 222,200
City of Longview Housing Authority | 1207 Commerce Avenue, Longview, WA 98632 | 79,065
Housing Authority City of Kelso | 1415 South 10th, Kelso, WA 98626 | 23,072
Housing Authority of Chelan County and the City of Wenatchee | 1555 South Methow, Wenatchee, WA 98801 | 31,848
Housing Authority of Island County | 7 NW 6th Street, Coupeville, WA 98239 | 47,315
Housing Authority of Jefferson County | 5210 Kuhn Street, Port Townsend, WA 98368 | 37,836
Housing Authority of Snohomish County | 12625 4th Avenue West, Suite 200, Everett, WA 98204 | 19,318
Housing Authority of the City of Bremerton | 110 Russell Road, Bremerton, WA 98312 | 42,833
Housing Authority of the City of Everett | 3107 Colby Avenue, Everett, WA 98201 | 144,018
Housing Authority of the City of Tacoma | 902 South L Street, Tacoma, WA 98405 | 64,909
Housing Authority of the City of Vancouver | 2500 Main Street, Suite 200, Vancouver, WA 98660 | 62,955
Housing Authority of the County of Clallam | 2603 South Francis Street, Port Angeles, WA 98362 | 92,314
Housing Authority of Thurston County | 503 West 4th Avenue, Olympia, WA 98501 | 129,818
King County Housing Authority | 600 Andover Park West, Tukwila, WA 98188 | 129,818
Kitsap County Consolidated Housing Authority | 9307 Bayshore Drive, Northwest, Silverdale, WA 98383 | 50,627
Pierce County Housing Authority | 603 South Polk Street, P.O. Box 45410, Tacoma, WA 98445 | 129,816
Seattle Housing Authority | P.O. Box 19028, 120 6th Avenue North, Seattle, WA 98109 | 293,447
Appleton Housing Authority | 925 West Northland Avenue, Appleton, WI 54914 | 38,734
Beloit Community Development Authority | 220 Portland Avenue, Beloit, WI 53511 | 64,909
Brown County Housing Authority | 100 N Jefferson Street, Green Bay, WI 54301 | 129,497
City of Kenosha Housing Authority | 625 52nd Street, Room 98, Kenosha, WI 53140 | 66,000
Dunn County Housing Authority | 1421 Stout Road, Menomonie, WI 54751 | 36,658
Housing Authority of Racine County | 837 Main Street, Racine, WI 53403 | 64,886
Oconto County Housing Authority | 1201 Main Street, Oconto, WI 54153 | 54,616
Superior Housing Authority | 1219 North Eight Street, Superior, WI 54880 | 51,121
Benwood-McMechen Housing Authority | 2200 Marshall Street, Benwood, WV 26031 | 36,208
Charleston-Kanawha Housing Authority | P.O. Box 86, Charleston, WV 25321 | 34,725
Clarksburg-Harrison Regional Housing Authority | 433 Baltimore Avenue, Clarksburg, WV 26301 | 66,699
Greenbrier Housing Authority | Route 2 Box 142, Lewisburg, WV 24901 | 59,783
Housing Authority of Mingo County | P.O. Box 120, Delbarton, WV 25670 | 32,138
Parkersburg Housing Authority | 1901 Cameron Avenue, Parkersburg, WV 26101 | 38,538
The Housing Authority of the City of Fairmont | P.O. Box 2738, 103 12th Street, Fairmont, WV 26555 | 54,629
The Huntington West Virginia Housing Authority | 300 West Seventh Avenue, Huntington, WV 25701 | 36,595

[FR Doc. E9-1260 Filed 1-22-09; 8:45 am]

BILLING CODE 4210-67-P